DEPARTMENT OF ENERGY

Federal Energy Regulatory Commission

[Project No. 14332-000]

Historic Harrisville, Inc.; Notice of Application Tendered for Filing With the Commission and Soliciting Additional Study Requests

Take notice that the following hydroelectric application has been filed with the Commission and is available for public inspection.

a. Type of Application: Exemption From Licensing.

b. Project No.: 14332-000.

c. Date filed: December 5, 2011.

d. Applicant: Historic Harrisville, Inc.

e. Name of Project: Cheshire Mills Hydroelectric Project .

f. Location: On Nubanusit Brook, in the Town of Harrisville, Cheshire County, New Hampshire. The project would not occupy lands of the United States.

g. Filed Pursuant to: Public Utility Regulatory Policies Act of 1978, 16 U.S.C. 2705, 2708.

h. Applicant Contact: Linda Willett, Historic Harrisville, Inc., P.O. Box 79, 69 Main Street, Harrisville, NH 03450, (603) 827-3722.

i. FERC Contact: Brandon Cherry, (202) 502-8328 or brandon.cherry@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 3, 2012.

All documents may be filed electronically via the Internet. See 18 CFR 385.2001(a)(1)(iii) and the instructions on the Commission's Web site http://www.ferc.gov/docs-filing/ferconline.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The Cheshire Mills Hydroelectric Project would consist of: (1) The existing 94-foot-long, 29-foot-high quarried-stone Cheshire Mills Dam with a 38-foot-long, 27-foot-high spillway section; (2) an existing 0.2-acre impoundment with a normal maximum water surface elevation of 1,282.85 feet above mean sea level; (3) an existing intake structure with a 24-foot-high, 5-foot-wide trashrack that would be modified to have 1-inch clear bar spacing, and a 4-foot-high, 4-foot-wide sluice gate; (4) an existing 128-foot-long, 42-inch-diameter steel penstock; (5) an existing powerhouse containing a rebuilt turbine and a new generator with an installed capacity of 90 kilowatts; (6) an existing discharge portal in the bottom of the powerhouse; and (7) a new 75-foot-long, 208-volt transmission line located in the mill connecting the generator to an existing distribution system. The proposed project is estimated to generate an average of 213,000 kilowatt-hours annually.

o. A copy of the application is available for review at the Commission in the Public Reference Room or may be viewed on the Commission's Web site at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

p. With this notice, we are initiating consultation with the New Hampshire Division of Historical Resources, as required by 106, National Historic Preservation Act, and the regulations of the Advisory Council on Historic Preservation, 36, CFR, at 800.4.

q. Procedural schedule: The application will be processed according to the following preliminary Hydro Licensing Schedule. Revisions to the schedule will be made as appropriate (e.g., if scoping is waived, the schedule would be shortened).

Issue Deficiency Letter | February 2012.
Issue Notice of Acceptance | April 2012.
Issue Scoping Document | May 2012.
Issue Notice of ready for environmental analysis | July 2012.
Issue Notice of the availability of the EA | December 2012.

Dated: December 15, 2011.
Kimberly D. Bose,
Secretary.

[FR Doc. 2011-32738 Filed 12-21-11; 8:45 am]

BILLING CODE 6717-01-P